DEPARTMENT OF ENERGY

Federal Energy Regulatory Commission

Combined Notice of Filings #1

Take notice that the Commission received the following exempt wholesale generator filings:

Docket Numbers: EG24-139-000.

Applicants: Clearwater Wind III, LLC.

Description: Clearwater Wind III, LLC submits Notice of Self-Certification of Exempt Wholesale Generator Status.

Filed Date: 3/20/24.

Accession Number: 20240320-5219.

Comment Date: 5 p.m. ET 4/10/24.

Docket Numbers: EG24-140-000.

Applicants: IP Lumina BESS, LLC.

Description: IP Lumina BESS, LLC submits Notice of Self-Certification of Exempt Wholesale Generator Status.

Filed Date: 3/21/24.

Accession Number: 20240321-5130.

Comment Date: 5 p.m. ET 4/11/24.

Docket Numbers: EG24-141-000.

Applicants: IP Lumina II BESS, LLC.

Description: IP Lumina II BESS, LLC submits Notice of Self-Certification of Exempt Wholesale Generator Status.

Filed Date: 3/21/24.

Accession Number: 20240321-5132.

Comment Date: 5 p.m. ET 4/11/24.

Docket Numbers: EG24-142-000.

Applicants: IP Radian BESS, LLC.

Description: IP Radian BESS, LLC submits Self-Certification of Exempt Wholesale Generator Status.

Filed Date: 3/21/24.

Accession Number: 20240321-5134.

Comment Date: 5 p.m. ET 4/11/24.

Take notice that the Commission received the following Complaints and Compliance filings in EL Dockets:

Docket Numbers: EL24-91-000.

Applicants: LS Power Development, LLC v. PJM Interconnection, L.L.C. and Monitoring Analytics, LLC, as the Independent Market Monitor for PJM.

Description: Complaint of LS Power Development, LLC v. PJM Interconnection, L.L.C. and Monitoring Analytics, LLC, as the Independent Market Monitor for PJM.

Filed Date: 3/20/24.

Accession Number: 20240320-5217.

Comment Date: 5 p.m. ET 4/19/24.

Docket Numbers: EL24-92-000.

Applicants: Cometa Energia, S.A. de C.V., Cometa Energia, S.A. de C.V.,/o/b/o, Energia Azteca X, S. de R.L. de C.V. v. California Independent System Operator.

Description: Complaint of Cometa Energia, S.A. de C.V.,/o/b/o, Energia Azteca X, S. de R.L. de C.V. v. California Independent System Operator.

Filed Date: 3/20/24.

Accession Number: 20240320-5220.

Comment Date: 5 p.m. ET 4/9/24.

Take notice that the Commission received the following electric rate filings:

Docket Numbers: ER24-333-000; ER24-334-000.

Applicants: Oak Lessee, LLC, Oak Solar, LLC.

Description: Amendment to February 1, 2024, Oak Solar, LLC et al. tariff filing.

Filed Date: 3/18/24.

Accession Number: 20240318-5272.

Comment Date: 5 p.m. ET 4/8/24.

Docket Numbers: ER24-1189-001.

Applicants: PJM Interconnection, L.L.C.

Description: Tariff Amendment: Amendment to NSA No. 7186, AF1-287 RE: Metadata Correction to be effective 4/3/2024.

Filed Date: 3/21/24.

Accession Number: 20240321-5192.

Comment Date: 5 p.m. ET 4/11/24.

Docket Numbers: ER24-1587-000.

Applicants: AlbertaEx, L.P.

Description: Baseline eTariff Filing: Application for Market-Based Rate Authority and Request for Waivers to be effective 5/21/2024.

Filed Date: 3/21/24.

Accession Number: 20240321-5102.

Comment Date: 5 p.m. ET 4/11/24.

Docket Numbers: ER24-1588-000.

Applicants: Double Black Diamond Solar Power, LLC.

Description: Baseline eTariff Filing: Petition for Blanket MBR Authorization with Waivers & Expedited Treatment to be effective 3/25/2024.

Filed Date: 3/21/24.

Accession Number: 20240321-5180.

Comment Date: 5 p.m. ET 4/11/24.

Docket Numbers: ER24-1589-000.

Applicants: AEP Texas Inc.

Description: § 205(d) Rate Filing: AEPTX-Lighthouse Electric Cooperative TSA to be effective 3/4/2024.

Filed Date: 3/21/24.

Accession Number: 20240321-5211.

Comment Date: 5 p.m. ET 4/11/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 21, 2024.
Debbie-Anne A. Reese,
Acting Secretary.

[FR Doc. 2024-06565 Filed 3-27-24; 8:45 am]

BILLING CODE 6717-01-P